DEPARTMENT OF ENERGY

Bonneville Power Administration

Hot Springs to Anaconda Transmission Line Rebuild Project

AGENCY: Bonneville Power Administration (BPA), Department of Energy (DOE). ACTION: Notice of intent to prepare an Environmental Impact Statement (EIS) and notice of floodplain and wetland assessment.

SUMMARY: In accordance with the National Environmental Policy Act (NEPA), BPA intends to prepare an EIS on its proposed rebuild of approximately 120 miles of existing 230-kiliovolt (kV) wood-pole transmission line that runs through Sanders, Lake, Missoula, Granite, Powell, and Deer Lodge counties, Montana. The deteriorated condition of the more than 60-year-old line compromises BPA's ability to maintain reliable electric service, and poses a safety risk to the public and maintenance crews.

With this notice, BPA is initiating the public scoping process for the EIS and is requesting comments about the potential environmental impacts it should consider as it prepares the EIS for the proposed project. In accordance with DOE regulations for compliance with floodplain and wetland environmental review requirements, BPA will prepare a floodplain and wetlands assessment that identifies, evaluates, and as appropriate, implements actions to avoid or minimize potential harm to or within any affected floodplains and wetlands. The assessment will be included in the EIS.

DATES: Written comments are due to the address below by August 12, 2014. Comments may also be made at three EIS scoping meetings to be held on the 29th, 30th, and 31st of July, 2014 at the addresses below.

ADDRESSES: Comments and suggestions on the proposed scope of the Draft EIS for this project and requests to be placed on the project mailing list may be mailed by letter to Bonneville Power Administration, Public Affairs—DKC-7, P.O. Box 14428, Portland, OR 97292-4428. Or you may FAX them to 503-230-3285; submit them on-line at www.bpa.gov/comment; or email them to comment@bpa.gov. Scoping meetings will be held in Montana from 4:00 p.m. to 7:00 p.m. at the following locations: July 29, 2014 at the Missoula Fire Department, Station 4, 3011 Latimor Street, Missoula; on July 30, 2014 at the Dixon Senior Citizens Center, 106 3rd Street, Dixon; and on July 31, 2014 at the William K. Kohrs Memorial Library, 501 Missouri Avenue, Deer Lodge. At these informal, open-house meetings, BPA will provide project information and maps. Members of the project team will be available to answer questions and accept verbal and written comments.

FOR FURTHER INFORMATION CONTACT: Doug Corkran, Environmental Coordinator, Bonneville Power Administration—KEC-4, P.O. Box 3621, Portland, Oregon, 97208-3621; toll-free telephone number 1-800-622-4519; direct number 503-230-7646; fax number 503-230-5699; or email at dfcorkran@bpa.gov. You may also contact Chad Hamel, Project Manager, Bonneville Power Administration—TEP-TPP-1, P.O. Box 3621, Portland, Oregon, 97208-3621; toll-free telephone 1-800-622-4519; direct telephone 360-619-6557; or email cjhamel@bpa.gov. Additional information can be found at the project Web site: www.bpa.gov/goto/HotSpringsAnaconda.

SUPPLEMENTARY INFORMATION: BPA proposes to rebuild three existing wood-pole transmission lines—the Hot Springs-Rattlesnake, Rattlesnake-Garrison, and Garrison-Anaconda lines—that run consecutively from Hot Springs, Montana to Anaconda, Montana. No major work has been done on the lines since they were built in 1952. Many of the structures, the electric wire (conductor), and associated structural components (cross arms, insulators, and dampers) are physically worn and structurally unsound in places. The wood transmission poles have lasted beyond the expected 55 to 60 years and now need to be replaced due to age, rot, and deterioration. Rebuilding the deteriorated line would maintain reliable electrical service and avoid risks to the safety of the public and maintenance crews.

The project would include removing and replacing existing wood-pole structures and components, as well as the conductor; improving access roads and establishing temporary access where needed; removing trees adjacent to the line that may cause a threat to reliability; developing temporary staging areas for storage of project materials; and revegetating areas disturbed by construction activities. The existing structures would be replaced with structures of similar design within or near to their existing locations. The line would continue to operate at 230 kV.

Proposed activities would also include the installation of new line disconnect switches at the Hot Springs and Garrison substations, and upgrading the existing fiber optic line that is attached to the Hot Springs-Rattlesnake and Rattlesnake-Garrison transmission line structures.

Alternatives Proposed for Consideration: In addition to the Proposed Action, BPA will evaluate the No Action Alternative as well as any additional viable alternatives brought forward during the scoping process. Under the No Action Alternative, BPA would not rebuild the line and would make repairs on an as-needed or emergency basis.

Public Participation and Identification of Environmental Issues: The potential environmental issues identified for most transmission line projects include land use, cultural resources, visual impacts, sensitive plants and animals, erosion/soils, wetlands, floodplains, and fish and water resources. The existing lines cross about 50 miles of the Flathead Indian Reservation, small portions of the Lolo and Beaverhead-Deer Lodge National Forests, several miles of State land, as well as private land.

BPA has established a 30-day scoping period during which affected landowners, concerned citizens, special interest groups, local governments, and any other interested parties are invited to comment on the scope of the proposed EIS. Scoping will help BPA ensure that a full range of issues related to this proposal is addressed in the EIS, and also help identify significant or potentially significant impacts that may result from the proposed project. When completed, the Draft EIS will be circulated for review and comment, and BPA will hold at least one public comment meeting for the Draft EIS. BPA will consider and respond in the Final EIS to comments received on the Draft EIS. BPA's subsequent decision will be documented in a Record of Decision.

Issued in Portland, Oregon, on June 19, 2014.
Elliot Mainzer,
Administrator and Chief Executive Officer.

[FR Doc. 2014-16243 Filed 7-10-14; 8:45 am]

BILLING CODE 6450-01-P